DEPARTMENT OF AGRICULTURE

Federal Crop Insurance Corporation

Funding Opportunity Title: Crop Insurance Education in Targeted States (Targeted States Program)

Announcement Type: Modification—Competitive Cooperative Agreements.This announcement modifies the Request for Application Notice published in the Federal Register, March 14, 2007 (Vol. 72, No. 49, Pages 11839-11846). The Dates and Summary portions have been modified.

CFDA Number: 10.458

Dates: Applications are due July 5, 2007.

Summary: The following paragraph has been added to the beginning of the Summary portion of the March 14, 2007, Federal Register Notice:The Risk Management Agency (RMA) did not receive valid application packages for the State of Utah under the original Request for Application Notice published in the Federal Register on March 14, 2007, for the Crop Insurance Education in Targeted States Program (Targeted States Program). RMA is re-announcing its Funding Opportunity—Request for Applications under the Targeted States Program for the State of Utah. Applicants who previously submitted an application under the March 14, 2007, Targeted States Program Request for Applications Notice for Utah must reapply in accordance with the original Notice published in the Federal Register on March 14, 2007. All other portions and sections of the full text Notice remain unchanged.

For Further Information Contact: Applicants and other interested parties are encouraged to contact: Lon Burke, USDA-RMA-RME, phone: 202-720-5265, fax: 202-690-3605, e-mail: RMA.Risk-Ed@rma.usda.gov. You may also obtain information regarding this announcement from the RMA Web site at: http://www.rma.usda.gov/aboutrma/agreements/.

Signed in Washington, DC, on June 14, 2007.
Eldon Gould,
Manager,Federal Crop Insurance Corporation.

[FR Doc. E7-11898 Filed 6-19-07; 8:45 am]

BILLING CODE 3410-08-P